DEPARTMENT OF COMMERCE

International Trade Administration

[C-489-838, C-533-890]

Certain Quartz Surface Products From India and the Republic of Turkey: Countervailing Duty Orders

AGENCY: Enforcement and Compliance, International Trade Administration, Department of Commerce.

SUMMARY: Based on affirmative final determinations by the Department of Commerce (Commerce) and the International Trade Commission (ITC), Commerce is issuing countervailing duty orders on certain quartz surface products (quartz surface products) from India and the Republic of Turkey (Turkey).

DATES: Applicable June 22, 2020.

FOR FURTHER INFORMATION CONTACT: Kristen Johnson at (202-482-4793) (India) and Stephanie Berger at (202) 482-2483 (Turkey), AD/CVD Operations, Office III, Enforcement and Compliance, U.S. Department of Commerce, 1401 Constitution Avenue NW, Washington, DC 20230.

SUPPLEMENTARY INFORMATION:

Background

In accordance with section 705(d) of the Tariff Act of 1930, as amended (the Act), on May 1, 2020, Commerce published its affirmative final determinations that countervailable subsidies are being provided to producers and exporters of quartz surface products from India and Turkey.¹ On June 15, 2020, the ITC notified Commerce of its affirmative determinations that an industry in the United States is materially injured within the meaning of section 705(b)(1)(A)(i) of the Act, by reason of subsidized imports of subject merchandise from India and Turkey.²

¹ See Certain Quartz Surface Products from India: Final Affirmative Countervailing Duty Determination and Final Affirmative Determination of Critical Circumstances, In Part, 85 FR 25398 (May 1, 2020) (Quartz Surface Products from India Final Determination); see also Certain Quartz Surface Products from the Republic of Turkey: Final Affirmative Countervailing Duty Determination and Final Affirmative Determination of Critical Circumstances, In Part, 85 FR 25400 (May 1, 2020).

² See ITC's Letter, “Notification of ITC Final Determinations,” dated June 15, 2020.

Scope of the Orders

The scope of these orders covers quartz surface products from India and Turkey. For a complete description of the scope, see the Appendix to this notice.

Countervailing Duty Orders

On June 15, 2020, in accordance with sections 705(b)(1)(A)(i) and 705(d) of the Act, the ITC notified Commerce of its final determinations in these investigations, in which it found that an industry in the United States is materially injured by reason of imports of quartz surface products from India and Turkey, and that critical circumstances do not exist with respect to imports of subject merchandise from India and Turkey that are subject to Commerce's affirmative critical circumstances findings. Therefore, in accordance with section 705(c)(2) of the Act, Commerce is issuing these countervailing duty orders. Because the ITC determined that imports of quartz surface products from India and Turkey are materially injuring a U.S. industry, unliquidated entries of such merchandise from India or Turkey, entered or withdrawn from warehouse for consumption, are subject to the assessment of countervailing duties.

Therefore, in accordance with section 706(a) of the Act, Commerce will direct U.S. Customs and Border Protection (CBP) to assess, upon further instruction by Commerce, countervailing duties for all relevant entries of quartz surface products from India and Turkey. Countervailing duties will be assessed on unliquidated entries of quartz surface products from India and Turkey entered, or withdrawn from warehouse, for consumption on or after October 11, 2019, the date of publication of the Preliminary Determinations,³ but will not include entries occurring after the expiration of the provisional measures period and before publication of the ITC's final injury determination, as further described below, for all producers and exporters except Antique Marbonite Private Limited (Antique Marbonite). For Antique Marbonite, countervailing duties will be assessed on unliquidated entries of quartz surface products from India entered, or withdrawn from warehouse, for consumption on or after May 1, 2020, the date on which Commerce published the Quartz Surface Products from India Final Determination in the Federal Register.⁴

³ See Certain Quartz Surface Products from India: Preliminary Affirmative Countervailing Duty Determination, Preliminary Affirmative Critical Circumstances Determination, In Part, and Alignment of Final Determination With Final Antidumping Duty Determination, 84 FR 54838 (October 11, 2019); see also Certain Quartz Surface Products from the Republic of Turkey: Preliminary Affirmative Countervailing Duty Determination, Preliminary Affirmative Critical Circumstances Determination, and Alignment of Final Determination With Final Antidumping Duty Determination, 84 FR 54841 (October 11, 2019) (collectively, Preliminary Determinations).

⁴ See Quartz Surface Products from India Final Determination.

Suspension of Liquidation

In accordance with section 706 of the Act, Commerce will instruct CBP to reinstitute the suspension of liquidation of quartz surface products from India and Turkey. We will also instruct CBP to require, pursuant to section 706(a)(1) of the Act, countervailing duties for each entry of the subject merchandise in an amount based on the net countervailable subsidy rates for the subject merchandise. These instructions suspending liquidation will remain in effect until further notice.

Company | Subsidy rate (percent)
India:
Antique Marbonite Private Limited ⁵ | 1.57
Pokarna Engineered Stone Limited ⁶ | 2.34
All Others | 2.17
Turkey:
Belenco Diş Ticaret A.Ş. and Peker Yüzey Tasarımları Sanayi ve Ticaret A.Ş⁷ | 2.43
All Others | 2.43

Critical Circumstances

With regard to the ITC's negative critical circumstances determination on imports of quartz surface products from India and Turkey, we will instruct CBP to lift suspension and to refund any cash deposits made to secure the payment of estimated countervailing duties with respect to entries of the subject merchandise entered, or withdrawn from warehouse, for consumption on or after July 13, 2019 (i.e., 90 days prior to the date of the publication of the Preliminary Determinations), but before October 11, 2019 (i.e., the date of publication of the Preliminary Determinations).

⁵ The company's legal name is Antique Marbonite Private Limited and trade name is Antique Marbonite Pvt. Ltd. Commerce found the following companies to be cross owned with Antique Marbonite Private Limited: Antique Granito Shareholders Trust, Prism Johnson Limited, and Shivam Enterprise.

⁶ Commerce found Pokarna Engineered Stone Limited to be cross owned with Pokarna Limited.

⁷ Commerce found the following company to be cross owned with Belenco Diş Ticaret A.Ş.: Peker Yüzey Tasarımları Sanayi ve Ticaret A.Ş.

Provisional Measures

Section 703(d) of the Act states that instructions issued pursuant to an affirmative preliminary determination may not remain in effect for more than four months. In the underlying investigations, Commerce published the Preliminary Determinations on October 11, 2019. Therefore, the four-month period beginning on the date of the publication of the Preliminary Determinations ended on February 8, 2020.

In accordance with section 703(d) of the Act and our practice, we instructed CBP to terminate the suspension of liquidation and to liquidate, without regard to countervailing duties, unliquidated entries of quartz surface products from India and Turkey entered, or withdrawn from warehouse, for consumption after February 8, 2020, the date the provisional measures expired, until and through the day preceding the date of publication of the ITC's final injury determination in the Federal Register. Suspension of liquidation will resume on the date of publication of the ITC's final determination in the Federal Register, for all producers and exporters except Antique Marbonite for whom suspension of liquidation began on May 1, 2020, the date on which Commerce published the Quartz Surface Products from India Final Determination in the Federal Register.⁸

⁸ See Quartz Surface Products from India Final Determination.

Notifications to Interested Parties

This notice constitutes the countervailing duty orders with respect to quartz surface products from India and Turkey pursuant to section 706(a) of the Act. Interested parties can find a list of countervailing duty orders currently in effect at http://enforcement.trade.gov/stats/iastats1.html.

These orders are issued and published in accordance with section 706(a) of the Act and 19 CFR 351.211(b).

Dated: June 16, 2020.
Jeffrey I. Kessler,
Assistant Secretary for Enforcement and Compliance.

Appendix—Scope of the Orders

Quartz surface products consist of slabs and other surfaces created from a mixture of materials that includes predominately silica (e.g., quartz, quartz powder, cristobalite, glass powder) as well as a resin binder (e.g., an unsaturated polyester). The incorporation of other materials, including, but not limited to, pigments, cement, or other additives does not remove the merchandise from the scope of the orders. However, the scope of the orders only includes products where the silica content is greater than any other single material, by actual weight. Quartz surface products are typically sold as rectangular slabs with a total surface area of approximately 45 to 60 square feet and a nominal thickness of one, two, or three centimeters. However, the scope of these orders includes surface products of all other sizes, thicknesses, and shapes. In addition to slabs, the scope of these orders includes, but is not limited to, other surfaces such as countertops, backsplashes, vanity tops, bar tops, work tops, tabletops, flooring, wall facing, shower surrounds, fire place surrounds, mantels, and tiles. Certain quartz surface products are covered by the orders whether polished or unpolished, cut or uncut, fabricated or not fabricated, cured or uncured, edged or not edged, finished or unfinished, thermoformed or not thermoformed, packaged or unpackaged, and regardless of the type of surface finish.

In addition, quartz surface products are covered by the orders whether or not they are imported attached to, or in conjunction with, non-subject merchandise such as sinks, sink bowls, vanities, cabinets, and furniture. If quartz surface products are imported attached to, or in conjunction with, such non-subject merchandise, only the quartz surface product is covered by the scope.

Subject merchandise includes material matching the above description that has been finished, packaged, or otherwise fabricated in a third country, including by cutting, polishing, curing, edging, thermoforming, attaching to, or packaging with another product, or any other finishing, packaging, or fabrication that would not otherwise remove the merchandise from the scope of the orders if performed in the country of manufacture of the quartz surface products.

The scope of the orders does not cover quarried stone surface products, such as granite, marble, soapstone, or quartzite. Specifically excluded from the scope of the orders are crushed glass surface products. Crushed glass surface products must meet each of the following criteria to qualify for this exclusion: (1) The crushed glass content is greater than any other single material, by actual weight; (2) there are pieces of crushed glass visible across the surface of the product; (3) at least some of the individual pieces of crushed glass that are visible across the surface are larger than 1 centimeter wide as measured at their widest cross-section (“Glass Pieces”); and (4) the distance between any single Glass Piece and the closest separate Glass Piece does not exceed three inches.

The products subject to the scope are currently classified in the Harmonized Tariff Schedule of the United States (HTSUS) under the following subheading: 6810.99.0010. Subject merchandise may also enter under subheadings 6810.11.0010, 6810.11.0070, 6810.19.1200, 6810.19.1400, 6810.19.5000, 6810.91.0000, 6810.99.0080, 6815.99.4070, 2506.10.0010, 2506.10.0050, 2506.20.0010, 2506.20.0080, and 7016.90.1050. The HTSUS subheadings set forth above are provided for convenience and U.S. Customs purposes only. The written description of the scope is dispositive.

[FR Doc. 2020-13374 Filed 6-19-20; 8:45 am]

BILLING CODE 3510-DS-P